DEPARTMENT OF ENERGY

Federal Energy Regulatory Commission

Notice of Application for Amendment of License and Soliciting Comments, Motions To Intervene, and Protests

June 8, 2005.

Take notice that the following application has been filed with the Commission and is available for public inspection:

a. Application Type: Amendment of license.

b. Project No: 2426-197.

c. Date Filed: March 17, 2005.

d. Applicant: California Department of Water Resources and the City of Los Angeles.

e. Name of Project: California Aqueduct Project.

f. Location: The project is located on the California Aqueduct, in San Bernadino, Los Angeles, San Luis Obispo, Ventura, and Kern Counties, California. This project is located within the Angeles National Forest and Los Padres National Forest.

g. Filed Pursuant to: Federal Power Act, 16 U.S.C. 791 (a) 825(r) and 799 and 801.

h. Applicant Contact: Dr. Eva Begley, California State Dept. of Water Resources, 1416 Ninth Street, Room 1115-9, Sacramento, CA, 95814, (916) 653-5951.

i. FERC Contacts: Any questions on this notice should be addressed to Rebecca Martin at (202) 502-6012, or e-mail address: rebecca.martin@ferc.gov.

j. Deadline for filing comments and or motions: July 8, 2005.

All documents (original and eight copies) should be filed with: Ms. Magalie R. Salas, Secretary, Federal Energy Regulatory Commission, 888 First Street, NE., Washington DC 20426. Please include the project number (P-2426-197) on any comments or motions filed. Comments, protests, and interventions may be filed electronically via the internet in lieu of paper. See 18 CFR 385.2001(a)(1)(iii) and the instructions on the Commission's Web site under the “e-Filing” link. The Commission strongly encourages e-filings.

k. Description of Request: The licensees are seeking Commission approval to modify the minimum flow requirements for the Piru Creek below Pyramid Dam which are required under article 52 and Exhibit S of the license. The licensees' amendment would allow the licensees to simulate natural flows to the extent operationally feasible and consistent with safety requirements. The licensees request this amendment to avoid an incidental take of the arroyo toad which is a listed species under the Endangered Species Act. By letter dated February 2, 2005, the U.S. Fish and Wildlife Service supports this request for more natural flows in order to not adversely affect the arroyo toad and its habitat.

l. Location of the Application: The filing is available for review at the Commission in the Public Reference Room, located at 888 First Street, NE., Room 2A, Washington, DC 20426, or may be viewed on the Commission's Web site at http://www.ferc.gov using the “eLibrary” link. Enter the docket number excluding the last three digits in the docket number field to access the document. For assistance, please contact FERC Online support at FERCOnLineSupport@ferc.gov or toll free (866) 208 3676 or TTY, contact (202) 502-8659.

m. Individuals desiring to be included on the Commission's mailing list should so indicate by writing to the Secretary of the Commission.

n. Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents—Any filings must bear in all capital letters the title “COMMENTS”, “RECOMMENDATIONS FOR TERMS AND CONDITIONS,” “PROTEST,” or “MOTION TO INTERVENE,” as applicable, and the Project Number of the particular application to which the filing refers. A copy of any motion to intervene must also be served upon each representative of the Applicant specified in the particular application.

p. Agency Comments—Federal, State, and local agencies are invited to file comments on the described application. A copy of the application may be obtained by agencies directly from the Applicant. If an agency does not file comments within the time specified for filing comments, it will be presumed to have no comments. One copy of an agency's comments must also be sent to the Applicant's representatives.

q. Comments, protests and interventions may be filed electronically via the Internet in lieu of paper. See 18 CFR 385.2001(a)(1)(iii) and the instructions on the Commission's Web site at http://www.ferc.gov under the “e-Filing” link.

Magalie R. Salas,
Secretary.

[FR Doc. E5-3076 Filed 6-14-05; 8:45 am]

BILLING CODE 6717-01-P